DEPARTMENT OF THE INTERIOR

U.S. Geological Survey

[GX12GB009PAMR00]

Agency Information Collection Activities: Comment Request

AGENCY: U.S. Geological Survey (USGS), Interior.

ACTION: Notice of an extension of an information Collection (1028-0089), Mineral Resources Program's (MRP) Mineral Resource External Research Program (MRERP).

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC. This IC is scheduled to expire on August 31, 2012.

To submit a proposal for the MRERP a project narrative must be completed and submitted via Grants.gov. Furthermore, for multi-year projects, an annual progress report must be completed, and for all projects, a final technical report is required at the end of the project period. The narrative and report guidance is available at http://www.usgs.gov/contracts/Minerals/index.html.

DATES: Submit written comments by June 26, 2012.

ADDRESSES: You may submit comments on this information collection to the Information Collection Clearance Officer, U.S. Geological Survey, 12201 Sunrise Valley Drive MS 807, Reston, VA 20192 (mail); (703) 648-7199 (fax); or smbaloch@usgs.gov (email). Use Information Collection Number 1028-0089 in the subject line.

FOR FURTHER INFORMATION CONTACT: Jeff L. Doebrich at 703-648-6103.

SUPPLEMENTARY INFORMATION: Title: Mineral Resource External Research Program (MRERP).

OMB Control Number: 1028-0089.

Form Number: Project narrative and report guidance posted on Grants.gov.

Abstract: Through the MRERP, the MRP of the USGS offers an annual competitive grant and/or cooperative agreement opportunity to universities, State agencies, Tribal governments or organizations, and industry or other private sector organizations. Applicants must have the ability to conduct research in topics related to nonfuel mineral resources and that meet the goals of the MRP. The MRERP will consider all research-based proposals that address one of the MRP's long-term goals. The long-term goals of the MRP, as described in its strategic plan (http://minerals.usgs.gov/plan/2006-2010/2006-2010_plan.html) are (1) Ensure availability of up-to-date quantitative assessments of potential for undiscovered mineral deposits, (2) ensure availability of up-to-date geoenvironmental assessments of priority Federal lands, (3) ensure availability of reliable geologic, geochemical, geophysical, and mineral locality data for the United States, and (4) ensure availability of long-term data sets describing mineral production and consumption. Furthermore, annual research priorities are provided as guidance for applicants to consider when submitting proposals. Annual research priorities are determined by USGS MRP management. Since its initiation in 2004, the MRERP has awarded more than $2.8 million to 48 different research projects across the country.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We intend to release the project abstracts and primary investigators for awarded/funded projects only.

Frequency: Annually.

Estimated Annual Number and Description of Respondents: Approximately 500 research scientists from universities, State agencies, Tribal governments or organizations, and industry or other private sector organizations.

Estimated Total Number of Annual Responses: 25.

Estimated Annual burden hours: 1125.

Estimated Annual Reporting and Recordkeeping “Hour” Burden: We estimate the public reporting burden averages 45 hours per response. This includes the time for (1) Project conception and development, proposal writing and reviewing, and submitting project narrative through Grants.gov, (2) preparation of annual progress report, and (3) preparation of final technical report.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. We will include or summarize each comment in our request to OMB to approve this IC. Before including your address, phone number, email address, or other personal identifying information in your comment, you should be aware that your entire comment, including your personal identifying information, may be made publicly available at any time. While you can ask OMB in your comment to withhold your personal identifying information from public review, we cannot guarantee that it will be done.

Dated April 13, 2012.
Ione Taylor,
Associate Director, Energy and Minerals, and Environmental Health.

[FR Doc. 2012-10177 Filed 4-26-12; 8:45 am]

BILLING CODE 4311-AM-P